DEPARTMENT OF COMMERCE

[I.D. 060603A]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: American Fisheries Act: Vessel and Processor Permit Applications.

Form Number(s): None.

OMB Approval Number: 0648-0393.

Type of Request: Regular submission.

Burden Hours: 42.

Number of Respondents: 20.

Average Hours Per Response: 2 hours for an application for an AFA catcher vessel permit; 30 minutes for application for an AFA Permit for Replacement Vessel; 2.5 hours for an application for an AFA Inshore Catcher Vessel Cooperative Permit; 2 hours for an application for an AFA mothership permit; and 2 hours for an application for an AFA inshore processor permit.

Needs and Uses: The American Fisheries Act (AFA) established an allocation program for the pollock fishery of the Bering Sea and Aleutian Islands Management Area (BSAI). Under the AFA, only vessels and processors that meet specific qualifying criteria are eligible to fish for and process pollock in the BSAI. The BSAI pollock quota is suballocated to groups of vessel owners who form fishing vessel cooperatives under the AFA. All AFA vessel and processor permits have no expiration date and will remain valid indefinitely unless revoked by NOAA. Inshore catcher vessel cooperatives wishing to receive an allocation of the BSAI inshore pollock total allocated catch (TAC) are required to submit an application for an inshore cooperative fishing permit on an annual basis by December 1 of the year prior to the year in which the cooperative fishing permit will be in effect. The information must be collected once a year because NOAA must identify the universe of participating vessels and processors prior to the start of each fishing year in order to assign allocations of pollock TAC to eligible groups of vessels that form cooperatives.

Affected Public: Business or other for-profit organizations.

Frequency: Annually or on occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, Room 10202, New Executive Office Building, Washington, DC 20503.

Dated: June 4, 2003.
Gwellnar Banks,
Management Analyst, Office of the Chief Information Officer.

[FR Doc. 03-14795 Filed 6-10-03; 8:45 am]

BILLING CODE 3510-22-S